DEPARTMENT OF ENERGY

Office of Energy Efficiency and Renewable Energy

Department of Energy's Fleet Alternative Fuel Vehicle Acquisition

AGENCY: Office of Energy Efficiency and Renewable Energy, DOE.

ACTION: Notice of availability of the Department of Energy's annual report on its alternative fuel vehicle acquisitions for fiscal years 1999 and 2000.

SUMMARY: In compliance with the Energy Policy Act of 1992 and Executive Order 13149, this notice announces the availability of the 1999 and 2000 reports which summarize the U.S. Department of Energy's (DOE) compliance with the annual alternative fuel vehicle acquisition requirement for its fleet. Additionally, the reports include data relative to the agency's effort in reducing petroleum consumption.

ADDRESSES: U.S. Department of Energy, Office of Energy Efficiency and Renewable Energy, Office of FreedomCAR and Vehicle Technologies, EE-2G, 1000 Independence Avenue, SW., Washington, DC 20585-0121.

FOR FURTHER INFORMATION CONTACT: Shabnam Fardanesh on (202) 586-9171 or shabnam.fardanesh@ee.doe.gov.

SUPPLEMENTARY INFORMATION: The Energy Policy Act of 1992 (42 U.S.C. 13211-13219) as amended by the Energy Conservation and Reauthorization Act of 1998 (Pub. L. 105-388, Section 310(b)(3)(b)) and Executive Order 13149 (April 2000) were intended to decrease the country's dependence on petroleum for transportation purposes. The Energy Policy Act of 1992 requires Federal fleets to acquire 75 percent of their new covered vehicles acquisitions as alternative fuel vehicles. In fiscal year 1999, DOE acquired 112 percent of its new covered vehicles as alternative fuel vehicles, and in fiscal year 2000, 96 percent of its new covered vehicles were alternative fuel vehicles. The Department exceeded its alternative fuel vehicles acquisition requirements for fiscal years 1999 and 2000, and expects a similarly high level of compliance for fiscal years 2001 and 2002.

Pursuant to 42 U.S.C. 13218 of the Energy Policy Act, DOE and other covered agencies are required annually to submit to Congress reports on their Energy Policy Act's alternative fuel vehicle acquisition requirements. These reports must also be placed on an available Web site and their availability, including the Web site address, must be published in the Federal Register.

DOE reports for 1999 and 2000 may be accessed on the Vehicle Technology's Federal Fleet Web site at www.ott.doe.gov/epact/fed_fleet_prog.shtml.

Issued in Washington, DC, on September 4, 2002.
David K. Garman,
Assistant Secretary, Energy Efficiency and Renewable Energy.

[FR Doc. 02-22909 Filed 9-9-02; 8:45 am]

BILLING CODE 6450-01-P